AGENCY FOR INTERNATIONAL DEVELOPMENT

Agency Information Collection Activities; Proposed Collection; Response to Comments; Open Innovation Competitions—Prizes, Challenges, Hackathons

AGENCY: Center for Development Innovation (CDI), U.S. Agency for International Development (USAID).

ACTION: Notice of response to information collection.

SUMMARY: The United States Agency for International Development sought comment on information contained in Federal Register Notice (Document Number: 2020-01961) and published Monday, February 3, 2020. One comment was received. The content of that comment was not germane to the subject of the information collection exercise. USAID/CDI will now request approval of this generic collection of information from the Office of Management and Budget (OMB).

FOR FURTHER INFORMATION CONTACT: Michael Jackson, USAID, Center for Development Innovations 202-216-3467 or mjackson@usaid.gov.

SUPPLEMENTARY INFORMATION: Title: Open innovation competitions—Prizes, Challenges and hackathons.

OMB Number: 2020-01961.

Type of Review: Renewal of generic collection.

Method of Collection: Electronic.

Frequency of Response: Periodically.

Affected Public: Open Innovation Competition contestants.

Estimated Number of Respondents: Approximately 800 participants annually based on current year estimates.

Estimated Time per Response: Response time varies depending on the nature of the open innovation competition from an average estimated response time of 10 hours/participant which is significantly less than offerors would be expected to spend on a traditional proposal. Some 100 participants may require as much as 2 additional hours each to provide additional information upon selection.

Total Estimated Annual Burden: 8,200 hours (800 participants × 10 hours/participant) + (100 participants × 2 hours/participant).

General Description of Collection: USAID/CDI establishes open innovation competitions—prizes, challenges and hackathons to source breakthrough innovations from innovators around the world to further USAID's ability to address its development and humanitarian response priorities.

USAID/CDI solicited written comments from all interested persons about the proposed collection of information. USAID/CDI specifically sought information relevant to the following topics:

• The necessity of the collection of information described for the proper performance of USAID/CDI's functions, including its practical utility;

• The accuracy of the estimation of the burden of the proposed collection;

• Enhancing the quality, utility, and clarity of the information to be collected; and

• Using automation and forms of information technology to minimize the burden imposed by the collection of information.

William Day,
Grants Management Specialist, Center for Development Innovation, U.S. Agency for International Development.

[FR Doc. 2020-12943 Filed 6-15-20; 8:45 am]

BILLING CODE P